DEPARTMENT OF ENERGY

Federal Energy Regulatory Commission

Notice of International Meeting

The Federal Energy Regulatory Commission hereby gives notice that the agency will host an international meeting of the Asia Pacific Energy Regulatory (APER) Forum on August 1-2, 2001 at its headquarters, 888 First Street NE., Washington, DC 20426. Commissioners and staff will take part in this event. Commissioner Philip Moeller and Commissioner John R. Norris are co-chairs of the event.

The meetings are expected to begin at 8:30 a.m. and end at 5:00 p.m. Eastern Time on both days. An agenda of the conference is attached to this notice.

Those wishing to attend this event are encouraged to register using the on-line form located at: https://www.ferc.gov/aper-forum/aper-8-1-12-form.asp.

The APER Forum was established as a recommendation at the 3rd Energy Regulatory and Market Development Forum, which operated under the Asia-Pacific Partnership on Clean Development and Climate (APP). The APP was an international partnership between the United States, South Korea, Japan, India, Canada, China and Australia aimed at addressing the challenges of climate change, energy security and air pollution in a way that encouraged economic development and reduced poverty. The APER Forum builds upon the work begun under the APP.

The APER Forum is designed to bring together policymakers, regulators, energy industry participants, academics, regulatory research organizations, and grid and market operators from Asian and Pacific countries to engage in meaningful information exchanges on matters relating both to electricity and to natural gas. The APER Forum is voluntary in nature and intends to provide an ongoing experience for information exchange on the development and application of best practices in regulatory and market arrangements. The first meeting was sponsored by Australia and held in 2010.

This year marks the second biennial meeting of the APER Forum. The event will include delegations from the United States, Canada, Australia, China, India, New Zealand, Thailand and Singapore. Other attendees include regulators from Pakistan, Ghana and the Czech Republic. It will focus on three major issues:

Transitioning to a Low-Carbon Economy—examining policy, regulatory arrangements and standards that encourage energy efficiency and clean energy technologies and promote clean investment/delivery (including renewable and alternative energy) with the aim of reducing greenhouse gas emissions.

Energy Infrastructure and Market Regulatory Arrangements—examining challenges and reforms to the operation and design of energy systems within the context of a market.

Competition Reform—examining regulatory, policy and standards matters that influence and encourage competition (wholesale and retail) growth in the market.

The conference will not be transcribed. However, there will be a free webcast. Anyone with Internet access who desires to watch the conference and download presentations can do so by going to the calendar of events on the FERC Web site (www.ferc.gov). The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free 1-866-208-3372 (voice) or 202-208-1659 (TTY), or send a FAX to 202-208-2106 with the required accommodations.

For more information, please contact:

Sarah McKinley, Secretariat, APER Forum, Federal Energy Regulatory Commission, 888 First Street NE., Washington, DC 20426, (202) 502-8004 or 8368, Sarah.McKinley@ferc.gov.

Dated: July 20, 2012.
Kimberly D. Bose,
Secretary.

Asia Pacific Energy Regulatory (APER) Forum, Meeting Agenda, Sponsored by the Federal Energy Regulatory Commission

August 1-2, 2012

Day 1, Wednesday, August 1, 2012—Morning

8:30 a.m. Opening Remarks

Philip Moeller, Commissioner, U.S. Federal Energy Regulatory Commission

John R. Norris, Commissioner, U.S. Federal Energy Regulatory Commission

Joseph T. Kelliher, Executive Vice President, Federal Regulatory Affairs, NextEra Energy, former Chairman, U.S. Federal Energy Regulatory Commission and Head of U.S. Delegation, 2010 APER Forum Meeting

Theme—Overview of Energy and Regulatory Structures/APER Members

9:00 a.m. Energy and Regulatory Overview of the United States: Philip Moeller, Commissioner, U.S. Federal Energy Regulatory Commission

9:20 a.m. Energy and Regulatory Overview of Australia: Brendan Morling, Head of Energy and Environment Division, Department of Resources, Energy and Tourism, Australia

9:40 a.m. Energy and Regulatory Overview of China: HE Yang, Director, Department of Power Market Regulation, State Electricity Regulatory Commission, China

10:00 a.m. Break

10:20 a.m. Energy and Regulatory Overview of Canada: John Foran, Director, Natural Resources Canada

10:40 a.m. Energy/Electricity Regulatory Overview of India: Dr. Pramod Deo, Chairman, Central Electricity Regulatory Commission, India

11:00 a.m. Energy and Regulatory Overview of Thailand: Dr. Pallapa Ruanrong, Commissioner, Energy Regulatory Commission

11:20 a.m. Energy and Regulatory Overview of New Zealand: Carl Hansen, Chief Executive, Electricity Authority of New Zealand

12:15 noon Lunch Break

Day 1, Wednesday, August 1, 2012—Afternoon

Theme—Transitioning to a Low-Carbon Economy

2:00 p.m. Carbon Trading and Policies for Low-Carbon Consumption

Panel Moderator: Brendan Morling, Head of Energy and Environment Division, Department of Resources, Energy and Tourism, Australia

○ Presentation on regional carbon trading in California and the U.S. Northeast: Dallas Burtraw, Darius Gaskins Senior Fellow, Resources for the Future, United States

○ Guided discussion about carbon policies with the heads of all the delegations

3:00 p.m. Break

3:15 p.m. Smart Grid Technologies that Enhance Efficiency

Panel Moderator: W. Terry Boston, President and Chief Executive Officer, PJM Interconnection, L.L.C., U.S.

○ Presentation: Working toward industry standards for interoperability—David Wollman, Deputy Director, Smart Grid and Cyber-Physical Systems Programs Office, U.S. National Institute of Standards and Technology

○ Presentation: Canada smart grid roadmap standards—Michel Fernand Girard, Vice-President, Policy and Stakeholder Relations, Standards Council of Canada

○ Presentation: Impacts of new technologies on security of supply—Dr. Brian Spalding, Commissioner, Australian Energy Market Commission (AEMC)

○ Discussion with heads of delegation

5:00 p.m. Adjourn

Day 2, Thursday, August 2, 2012—Morning

8:30 a.m. Opening Remarks—Day 2

Philip Moeller, Commissioner, U.S. Federal Energy Regulatory Commission

John R. Norris, Commissioner, U.S. Federal Energy Regulatory Commission

David A. Wright, President, South Carolina Public Service Commission and President of the National Association of Regulatory Utility Commissioners (NARUC)

Theme—Energy Infrastructure and Market Regulations

9:00 a.m. Grid Reliability

Panel Moderator: John R. Norris, Commissioner, U.S. Federal Energy Regulatory Commission

○ Enhancing grid reliability: Cheryl LaFleur, Commissioner, U.S. Federal Energy Regulatory Commission

○ Presentation: Network Investments for the Long-Term Interests of Consumers—Andrew Reeves, Chairman, Australian Energy Regulator

○ Discussion with heads of delegation

10:00 a.m. Break

10:15 a.m. Renewables in the New Markets

Panel Moderator: John Pierce, Chairman, Australian Energy Market Commission

○ Presentation: Integrating variable energy resources into existing grids—Jon Wellinghoff, Chairman, U.S. Federal Energy Regulatory Commission

○ Presentation: Integrating renewables from a reliability perspective—Darren Finkbeiner, Manager, Market Development, Ontario Independent Electricity System Operator (IESO), Canada

○ Presentation: Incorporating new technologies onto the grid—Kai XIE, President, New York Office, State Grid Corporation of China (SGCC)

○ Discussion with heads of delegation

11:45 p.m. Lunch Break

Day 2, Thursday, August 2, 2012—Afternoon

Theme—Competition Reform

1:30 p.m. Market Regulation—Oil and Gas Developments

Panel Moderator: S. Krishnan, Chairperson, Petroleum and Natural Gas Regulatory Board (PNGRB), India

○ Oil Developments in Canada: John Foran, Director, Natural Resources Canada

○ Presentation: Regulatory Framework in Oil & Natural Gas Sector in India—Challenges & Opportunities: Konedana Rajeswara Rao, Petroleum & Natural Gas Regulatory Board (PNGRB), India

○ Impacts of the Shale Gas Revolution Mike McGehee, Director, Division of Pipeline Certificates, Office of Energy Projects, U.S. Federal Energy Regulatory Commission

○ Discussion with heads of delegation

3:00 p.m. Break

3:15 p.m. Impact of Competition on Reliability of Supply

Panel Moderator: Carl Hansen, Chief Executive, Electricity Authority of New Zealand

○ Presentation: Energy network regulation policy and consumer prices—Mr. Brendan Morling, Head of Energy and Environment Division, Department of Resources, Energy and Tourism, Australia

○ Presentation: Building efficient wholesale markets, the RTO/ISO model—Andrew L. Ott, Senior Vice President for Markets, PJM Interconnection L.L.C., United States

○ Discussion with heads of delegation

4:45 p.m. Concluding Remarks

Philip Moeller, Commissioner, U.S. Federal Energy Regulatory Commission

John R. Norris, Commissioner, U.S. Federal Energy Regulatory Commission

[FR Doc. 2012-18440 Filed 7-27-12; 8:45 am]

BILLING CODE 6717-01-P